DEPARTMENT OF LABOR

Employment and Training Administration

[TA-W-58,245 and TA-W-58,245A]

Agilent Technologies, Assurance Solutions, Roseville, CA and Colorado Springs, CO; Notice of Revised Determination on Reconsideration

By application dated January 26, 2006, a company official requested administrative reconsideration of the Department's negative determination regarding eligibility for workers and former workers of the subject firm to apply for Trade Adjustment Assistance (TAA) and Alternative Trade Adjustment Assistance (ATAA). The negative determination notice applicable to workers of Agilent Technologies, Assurance Solutions, Roseville, California (TA-W-58,245) and Agilent Technologies, Assurance Solutions, Colorado Springs, Colorado (TA-W-58,245A) was signed on December 20, 2005, and published in the Federal Register on January 10, 2006 (71 FR 1556). The subject worker group develops software for the telecommunications industry.

The petition, filed on October 27, 2005, was denied because the “contributed importantly” group eligibility requirement of Section 222 of the Trade Act of 1974, as amended, was not met, and there was not a shift in production abroad.

The petitioner contends that software development should be considered production, that workers engaged in software writing and development should be considered as engaged in production and that production of software shifted to China, India and Scotland.

Since the issuance of the negative determination, the Department has revised its interpretation of an article to acknowledge that there are tangible and intangible articles and to clarify that the production of intangible articles can be distinguished from the provision of services. Software and similar intangible goods that would have been considered articles for the purposes of the Trade Act if embodied in a physical medium will now be considered to be articles regardless of their method of transfer.

In response to the request for reconsideration, a company official was contacted for clarification on the shift of software production abroad. The company official stated that, beginning in October 2005, production shifted abroad and software was being brought back into the United States from India and Scotland.

In accordance with Section 246 the Trade Act of 1974, as amended, the Department herein presents the results of its investigation regarding certification of eligibility to apply for ATAA for older workers. In order for the Department to issue a certification of eligibility to apply for ATAA, the group eligibility requirements of Section 246 of the Trade Act, as amended, must be met. The Department has determined in this case that the requirements of Section 246 have been met.

A significant number of workers at the firm are age 50 or over and possess skills that are not easily transferable. Competitive conditions within the industry are adverse.

Conclusion

After careful review of the information obtained in the reconsideration investigation, I determine that a shift of production followed by increased imports of software like or directly competitive with those produced by the subject workers contributed importantly to separations at the subject firm. In accordance with the provisions of the Act, I make the following certification:

All workers of Agilent Technologies, Assurance Solutions, Roseville, California (TA-W-58,245), and Agilent Technologies, Assurance Solutions, Colorado Springs, Colorado (TA-W-58,245A), who became totally or partially separated from employment on or after October 27, 2004, through two years from the date of this certification, are eligible to apply for adjustment assistance under Section 223 of the Trade Act of 1974, and are eligible to apply for alternative trade adjustment assistance under Section 246 of the Trade Act of 1974.

Signed in Washington, DC, this 25th day of April, 2006.
Elliott S. Kushner,
Certifying Officer, Division of Trade Adjustment Assistance.

[FR Doc. E6-6819 Filed 5-4-06; 8:45 am]

BILLING CODE 4510-30-P